INTERNATIONAL TRADE COMMISSION

[Investigation No. 332-609]

Effects on the U.S. Economy of Revoking China's Permanent Normal Trade Relations Status

AGENCY: United States International Trade Commission.

ACTION: Notice of investigation.

SUMMARY: The U.S. International Trade Commission has self-instituted Investigation No. 332-609, Effects on the U.S. Economy of Revoking China's Permanent Normal Trade Relations Status, to produce a report as directed by the U.S. House of Representatives Committee on Appropriations analyzing revocation of permanent normal trade relations treatment for all products of China.

DATES:

April 13, 2026: Deadline for filing all written submissions.

August 21, 2026: Anticipated date for publication of the report.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Tamara Gurevich (202-205-3404 or Tamara.Gurevich@usitc.gov) or Deputy Project Leaders Theron Gray (202-205-3132 or Theron.Gray@usitc.gov) and Tyler Berard (202-205-3354 or Tyler.Berard@usitc.gov) for information specific to this investigation. For information on the legal aspects of this investigation, contact Brian Allen (202-205-3034 or Brian.Allen@usitc.gov) of the Commission's Office of the General Counsel. The media should contact Claire Huber, Office of External Relations (202-205-1819 or Claire.Huber@usitc.gov). Hearing-impaired individuals are advised that information on this matter can be obtained by contacting the Commission's TDD terminal on 202-205-1810. General information concerning the Commission may be obtained by accessing its internet address (https://www.usitc.gov). Persons with mobility impairments who will need special assistance in gaining access to the Commission should contact the Office of the Secretary at 202-205-2000.

SUPPLEMENTARY INFORMATION:

Background: The Commerce, Justice, Science; Energy and Water Development; and Interior and Environment Appropriations Act, 2026 (the Act), signed by the President on January 23, 2026, provides funding for the Commission for fiscal year 2026. Public Law 119-74. A report of the House of Representatives Committee on Appropriations (Committee) accompanying the Act contains language directing the Commission to conduct an investigation and prospective economic analysis of revoking permanent normal trade relations (PNTR) treatment for all products of China on the U.S. economy, U.S. industry, and product sourcing over a six-year period. The Committee in its report states that the Commission report in this investigation (1) should include detailed information, to the extent practicable, on U.S. trade, production, and prices in the industries that would be directly and most affected by the imposition of rates of duty in column 2 of the Harmonized Tariff Schedule of the United States on products of China; (2) should examine an alternative scenario in which Congress revokes PNTR treatment, with a five-year phase-in of tariffs, on a subset of national security products from China; and (3) should be transmitted to the House of Representatives and Senate Committees on Appropriations within 210 days of the Act's enactment. Commerce, Justice, Science, and Related Agencies Appropriations Bill, 2026, H.R. Rep. No. 119-272, at 109 (2025); 172 Cong. Rec. H255 (daily ed. Jan. 8, 2026).

The Commission is self-instituting this investigation under section 332(b) of the Tariff Act of 1930 (19 U.S.C. 1332(b)) to produce a report containing information and analysis as detailed above and will publish its report no later than August 21, 2026.

Written submissions: The Commission does not plan to hold a public hearing in connection with the preparation of this report. Interested persons are invited to file written submissions and other information concerning the matters to be addressed in this investigation. All written submissions should be addressed to the Secretary, and should be received no later than 5:15 p.m., April 13, 2026. All written submissions must conform to the provisions of section 201.8 of the Commission's Rules of Practice and Procedure (19 CFR 201.8). Filings must be made through the Commission's Electronic Document Information System (EDIS, https://edis.usitc.gov). Persons with questions regarding electronic filing should contact the Office of the Secretary, Docket Services Division (202-205-1802), email EDIS3help@usitc.gov, or consult the Commission's Handbook on Filing Procedures.

Confidential business information: Any submissions that contain confidential business information (CBI) must also conform with the requirements in section 201.6 of the Commission's Rules of Practice and Procedure (19 CFR 201.6). Section 201.6 of the rules requires that the cover of the document and the individual pages be clearly marked as to whether they are the “confidential” or “nonconfidential” version, and that the CBI is clearly identified by means of brackets. All written submissions, except for CBI, will be made available for inspection by interested persons.

The Commission will not include any CBI in its report. However, all information, including CBI, submitted in this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity or other security purposes. The Commission will not otherwise disclose any CBI in a manner that would reveal the operations of the firm supplying the information.

Summaries of views of interested persons: Interested persons wishing to have a summary of their views included in the report should include a summary with a written submission on or before April 13, 2026, and should mark the summary as having been provided for that purpose. The summary should be clearly marked as “summary for inclusion in the report” at the top of the page. The summary may not exceed 500 words and should not include any CBI. The summary will be published as provided if it meets these requirements and is germane to the subject matter of the investigation. The Commission will list the name of the organization furnishing the summary and will include a link where the written submission can be found.

By order of the Commission.
Issued: February 26, 2026.
Lisa Barton,
Secretary to the Commission.

[FR Doc. 2026-04100 Filed 2-27-26; 8:45 am]

BILLING CODE 7020-02-P